DEPARTMENT OF TRANSPORTATION

Federal Aviation Administration

Notice of Intent To Establish an Air Tour Management Plan and Notice of Public Meeting for Haleakala National Park

AGENCY: Federal Aviation Administration (FAA).

ACTION: Notice.

SUMMARY: The FAA, in cooperation with the NPS, is initiating development of an Air Tour Management Plan (ATMP) for the Haleakala National Park pursuant to the National Parks Air Tour Management Act of 2000 (Public Law 106-181) and its implementing regulations contained in title 14, Code of Federal Regulations, part 136, National Parks Air Tour Management, published October 25, 2002 (67 FR 65662). The objective of the ATMP is to mitigate or prevent the significant adverse impacts, if any, of commercial air tour operations upon the natural and cultural resources, visitor experiences, and abutting tribal lands, of the Haleakala National Park. Following a Federal rulemaking action, the ATMP will be incorporated into part 136. This notice provides information on the Public Information Workshop for all persons having an interest in Haleakala National Park.

DATES: The Public Information Workshop will be held February 26, 2003, at 6 p.m.

ADDRESSES: The Public Information Workshop will be held at the Pukalani Community Center, 91 Pukalani Street, Pukalani, Hawaii.

FOR FURTHER INFORMATION CONTACT: Brian Armstrong, Air Tour Management Plan Program Manager, Executive Resource Staff, AWP-4, Federal Aviation Administration, Western-Pacific Region. Mailing address: P.O. Box 92007, Los Angeles, California 90009-2007. Telephone: (310) 725-3818. Street address: 15000 Aviation Boulevard, Hawthorne, California 90261. Email: Brian.Armstrong@faa.gov.

SUPLEMENTARY INFORMATION The FAA, in cooperation with the NPS, is initiating development of an Air Tour Management Plan (ATMP) for the Haleakala National Park pursuant to the National Parks Air Tour Management Act of 2000 (Public Law 106-181) and its implementing regulations contained in title 14, Code of Federal Regulations, part 136, National Parks Air Tour Management, published October 25, 2002 (67 FR 65662). The objective of the ATMP is to mitigate or prevent the significant adverse impacts, if any, of commercial air tour operations upon the natural and cultural resources, visitor experiences, and abutting tribal lands, of the Haleakala National Park. Following a Federal rulemaking action, the ATMP will be incorporated into part 136.

In developing the ATMP and associated rulemaking actions, the Federal Aviation Administration (FAA) and National Park Service (NPS) are required to comply with the National Environmental Policy Act of 1970 (NEPA), which calls on Federal agencies to consider environmental issues as part of their decision making process. For the purposes of compliance with NEPA, the FAA is the Lead Agency and the NPS is a Cooperating Agency. An Environmental Assessment will be prepared for the ATMP in accordance with NEPA and its implementing regulations (40 CFR parts 1500-1508).

Interested individuals, groups, and other members of the public are invited to attend a Public Information Workshop to be held on February 26, 2003, at 6 p.m. The workshop will consist of brief presentations by the FAA, the NPS, and the Acoustical Department of the VOLPE National Transportation Center beginning at 6 p.m. These presentations will conclude by approximately 7 p.m. Following the presentations, attendees may browse displays, collect information, talk with FAA and NPS officials, discuss concerns, and register to receive further information regarding development of the Haleakala National Park ATMP.

This is a public information workshop only. Public testimony or comments will not be formally recorded at this time. A public scoping period, during which public comments will be formally received, will be held at a later time in compliance with the procedures established under NEPA. The scoping period will be announced through the Federal Register, local media, the Internet, and direct mailings to interested parties known to the FAA and the NPS.

Additional information on the ATMP Program is available on the FAA's ATMP Website located at www.atmp.faa.gov. Interested parties may register to receive information regarding the development of this and other ATMPs through this website.

Issued in Hawthorne, California on January 16, 2003.
Brian Q. Armstrong,
Air Tour Management Plan, Program Manager, AWP-4, Western-Pacific Region.

[FR Doc. 03-1531 Filed 1-22-03; 8:45 am]

BILLING CODE 4910-13-P